DEPARTMENT OF LABOR

Mine Safety and Health Administration

Petitions for Modification; Amendment

AGENCY: Mine Safety and Health Administration, Labor.

ACTION: Notice; amendment.

SUMMARY: The Mine Safety and Health Administration (MSHA) published a document in the Federal Register of May 20, 2009, concerning a petition for modification of an existing safety standard at 30 CFR 75.503 (30 CFR 18.35). The petitioner requests that Docket number M-2009-008-C be amended to reflect the correct company name of Excel Mining LLC, Mine No. 3, MSHA No. 15-08079.

FOR FURTHER INFORMATION CONTACT: Barbara Barron, 202-693-9447 or Roslyn Fontaine, 202-693-9475.

Amendment

The Federal Register of May 20, 2009, page 23745, third column, should be amended to read: Excel Mining, LLC.

Dated: July 28, 2009.
Patricia W. Silvey,
Director, Office of Standards, Regulations and Variances.

[FR Doc. E9-18314 Filed 7-30-09; 8:45 am]

BILLING CODE 4510-43-P